DEPARTMENT OF ENERGY

Office of Energy Efficiency and Renewable Energy

[Docket No. EERE-2014-BT-DET-0009]

RIN 1904-AD27

Determination Regarding Energy Efficiency Improvements in ANSI/ASHRAE/IES Standard 90.1-2013: Energy Standard for Buildings, Except Low-Rise Residential Buildings; Correction

AGENCY: Office of Energy Efficiency and Renewable Energy, Department of Energy.

ACTION: Notice of determination; Correction.

SUMMARY: On September 26, 2014 the U.S. Department of Energy (DOE) published a notice in the Federal Register regarding its determination surrounding ANSI/ASHRAE/IES Standard 90.1-2013 (79 FR 57900). The original notice included an incorrect date by which states are required by statute to submit certifications. This notice contains a correction to the state certification deadline.

FOR FURTHER INFORMATION CONTACT: Jeremiah Williams; U.S. Department of Energy, Office of Energy Efficiency and Renewable Energy, 1000 Independence Avenue SW., EE-5B, Washington, DC 20585; (202) 287-1941; Jeremiah.Williams@ee.doe.gov.

For legal issues, please contact Kavita Vaidyanathan; U.S. Department of Energy, Office of the General Counsel, 1000 Independence Avenue SW., GC-71, Washington, DC 20585; (202) 586- 0669; Kavita.Vaidyanathan@hq.doe.gov.

Correction

In the Federal Register dated September 26, 2014 (79 FR 57900), FR Doc. 2014-22882, the DATES section is corrected to read: Certification statements provided by States must be submitted by September 26, 2016.

Issued in Washington, DC, on September 30, 2014.
Kathleen B. Hogan,
Deputy Assistant Secretary for Energy Efficiency, Energy Efficiency and Renewable Energy.

[FR Doc. 2014-23916 Filed 10-6-14; 8:45 am]

BILLING CODE 6450-01-P